DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Date of modification | Community No.
Florida:
Bay (FEMA Docket No.: B-2447). | Unincorporated areas of Bay County (23-04-0322P). | Robert Majka, Manager, Bay County, Board of Commissioners, 840 West 11th Street, Panama City, FL 32401. | Bay County Planning and Zoning Department, 707 Jenks Avenue, Suite B, Panama City, FL 32401. | Aug. 8, 2024 | 120004
Nassau (FEMA Docket No.: B-2447). | Unincorporated areas of Nassau County (23-04-5724P). | Taco Pope, Manager, Nassau County, 96135 Nassau Place, Suite 1, Yulee, FL 32097. | Nassau County Building Department, 96161 Nassau Place, Yulee, FL 32097. | Aug. 8, 2024 | 120170
St. Johns (FEMA Docket No.: B-2447). | Unincorporated areas of St. Johns County (23-04-4828P). | Sarah Arnold, Chair, St. Johns County Board of Commissioners, 500 San Sebastian View, St. Augustine, FL 32084. | St. Johns County Permit Center, 4040 Lewis Speedway, St. Augustine, FL 32084. | Aug. 19, 2024 | 125147
Indiana:
Boone (FEMA Docket No.: B-2447). | Town of Whitestown (23-05-1314P). | Dan Patterson President, Town of Whitestown Council, 6210 Veterans Drive, Whitestown, IN 46075. | Town Hall, 3 South Main Street, Whitestown, IN 46075. | Aug. 9, 2024 | 180015
Boone (FEMA Docket No.: B-2447). | Town of Zionsville (23-05-1314P). | The Honorable John Stehr, Mayor, Town of Zionsville, 1100 West Oak Street, Zionsville, IN 46075. | Planning Department, 1100 West Oak Street, Zionsville, IN 46077. | Aug. 9, 2024 | 180016
Elkhart (FEMA Docket No.: B-2447). | City of Elkhart (23-05-0829P). | The Honorable Rod Roberson, Mayor, City of Elkhart, 229 South 2nd Street, Elkhart, IN 46516. | City Hall, 229 South 2nd Street, Elkhart, IN 46516. | Aug. 22, 2024 | 180057
Johnson (FEMA Docket No.: B-2451). | Unincorporated areas of Johnson County (23-05-1894P). | Brian Baird, Chair, Johnson County Board of Commissioners, 86 West Court Street, Franklin, IN 46131. | Johnson County Courthouse Annex Building, 6 West Court Street, Franklin, IN 46131. | Oct. 4, 2024 | 180111
Lake (FEMA Docket No.: B-2447). | Town of Griffith (23-05-0583P). | Rick Ryfa, President, Town of Griffith Council, 111 North Broad Street, Griffith, IN 46319. | Town Hall, 111 North Broad Street, Griffith, IN 46319. | Aug. 26, 2024 | 185175
Lake (FEMA Docket No.: B-2447). | Town of Merrillville (23-05-0583P). | Rick Bella, President, Town of Merrillville Council, 7820 Broadway Street, Merrillville, IN 46410. | Town Hall, 7820 Broadway Street, Merrillville, IN 46410. | Aug. 26, 2024 | 180138
Lake (FEMA Docket No.: B-2447). | Town of Schererville (23-05-0583P). | Thomas J. Schmitt, President, Town of Schererville Council, 10 East Joliet Street, Schererville, IN 46375. | Town Hall, 10 East Joliet Street, Schererville, IN 46375. | Aug. 26, 2024 | 180142
Minnesota:
Olmsted (FEMA Docket No.: B-2447). | City of Rochester (23-05-2698P). | The Honorable Kim Norton, Mayor, City of Rochester, 201 4th Street Southeast, Rochester, MN 55904. | Planning, Land Use, Zoning Department, 2122 Campus Drive Southeast, Suite 100, Rochester, MN 55904. | Aug. 14, 2024 | 275246
Olmsted (FEMA Docket No.: B-2447). | Unincorporated areas of Olmsted County (23-05-2698P). | Greg Wright, Olmsted County Commissioner, 3rd District, 151 4th Street Southeast, Rochester, MN 55904. | Olmsted County, Planning, Land Use, Zoning Department, 2122 Campus Drive Southeast, Suite 100, Rochester, MN 55904. | Aug. 14, 2024 | 270626
Wilkin (FEMA Docket No.: B-2451). | City of Nashua (23-05-2401P). | The Honorable Darin Raguse, Mayor, City of Nashua, 613 County Road 19, Nashua, MN 56522. | City Hall 613 County Road 19, Nashua, MN 56522. | Oct. 3, 2024 | 270918
Missouri:
St. Charles (FEMA Docket No.: B-2447). | City of St. Charles (23-07-0528P). | The Honorable Dan Borgmeyer, Mayor, City of St. Charles, 200 North 2nd Street, St. Charles, MO 63301. | City Hall, 200 North 2nd Street, St. Charles, MO 63301. | Aug. 26, 2024 | 290318
St. Charles (FEMA Docket No.: B-2447). | Unincorporated areas of St. Charles County (23-07-0528P). | Steve Ehlmann, St. Charles County Executive, 100 North 3rd Street, St. Charles, MO 63301. | St. Charles County Administration Building, 201 North 2nd Street, Suite 420, St. Charles, MO 63301. | Aug. 26, 2024 | 290315
Nebraska: York (FEMA Docket No.: B-2447). | City of York (23-07-0607P). | The Honorable Barry Redfern, Mayor, City of York, 100 East 4th Street, York, NE 68467. | City Hall, 100 East 4th Street, York, NE 68467. | Aug. 16, 2024 | 310237
New York: Oswego (FEMA Docket No.: B-2447). | City of Oswego (23-02-0639P). | The Honorable Robert A. Corradino, Mayor, City of Oswego, 13 West Oneida Street, 2nd Floor, Oswego, NY 13126. | Engineering Department, 13 West Oneida Street, 3rd Floor, Oswego, NY 13126. | Oct. 10, 2024 | 360656
Ohio: Butler (FEMA Docket No.: B-2447). | Unincorporated areas of Butler County (23-05-1958P). | Cindy Carpenter, President, Butler County Board of Commissioners, 315 High Street, 6th Floor, Hamilton, OH 45011. | Butler County Zoning Department, 130 High Street, 1st Floor, Hamilton, OH 45011. | Aug. 14, 2024 | 390037
Texas: Tarrant (FEMA Docket No.: B-2447). | City of Fort Worth (22-06-2195P). | The Honorable Mattie Parker, Mayor, City of Fort Worth, 200 Texas Street, Fort Worth, TX 76102. | Department of Transportation and Public Works, 1000 Throckmorton Street, Fort Worth, TX 76102. | Aug. 7, 2024 | 480596
Wisconsin:
Marathon (FEMA Docket No.: B-2447). | Unincorporated areas of Marathon County (23-05-1298P). | Kurt Gibbs, Marathon County Board Member District 32, 500 Forest Street, Wausau, WI 54403. | Marathon County Conservation, Planning and Zoning Office, 210 River Drive, Wausau, WI 54403. | Oct. 14, 2024 | 550245
Waukesha (FEMA Docket No.: B-2447). | Unincorporated areas of Waukesha County (23-05-1476P). | Paul Decker, Chair, Waukesha County Executive Committee, 325 Parkview Court, Hartland, WI 53029. | Waukesha County Administration Building, 515 West Moreland Boulevard, Waukesha, WI 53188. | Oct. 15, 2024 | 550476
Waukesha (FEMA Docket No.: B-2447). | Village of Sussex (23-05-1476P). | Anthony J. LeDonne, President, Village of Sussex, W233N6478 Kneiske Drive, Sussex, WI 53089. | Village Hall, N64W23760, Main Street, Sussex, WI 53089. | Oct. 15, 2024 | 550490

[FR Doc. 2024-25222 Filed 10-29-24; 8:45 am]

BILLING CODE 9110-12-P